ENVIRONMENTAL PROTECTION AGENCY

40 CFR Part 52

[R06-OAR-2005-OK-0001; FRL-7912-2]

Approval and Promulgation of Air Quality Implementation Plans; Oklahoma; Attainment Demonstration for the Central Oklahoma Early Action Compact Area; Ozone

AGENCY: Environmental Protection Agency (EPA).

ACTION: Proposed rule.

SUMMARY: The EPA is proposing to approve a revision to the Oklahoma State Implementation Plan (SIP) submitted by the Secretary of the Environment on December 22, 2004 for Central Oklahoma. This revision will incorporate a Memorandum of Agreement (MOA) between the Oklahoma Department of Environmental Quality (ODEQ) and the Association of Central Oklahoma Governments (ACOG) into the Oklahoma SIP and includes a demonstration of attainment for the 8-hour National Ambient Air Quality Standard (NAAQS) for ozone. The MOA outlines pollution control measures for the Central Oklahoma Early Action Compact (EAC) area. The EAC is designed to achieve and maintain the 8-hour ozone standard more expeditiously than the EPA's 8-hour implementation rulemaking. EPA is proposing approval of the photochemical modeling in support of the attainment demonstration of the 8-hour ozone standard within the Central Oklahoma EAC and is proposing approval of the associated control measures. We are proposing to approve this revision as a strengthening of the SIP in accordance with the requirements of sections 110 and 116 the Federal Clean Air Act (the Act), which will result in emission reductions needed to help ensure attainment of the 8-hour NAAQS for ozone.

DATES: Comments must be received on or before June 13, 2005.

ADDRESSES: Submit your comments, identified by Regional Material in EDocket (RME) ID No. R06-OAR-2005-OK-0001, by one of the following methods:

Federal eRulemaking Portal: http://www.regulations.gov. Follow the on-line instructions for submitting comments.

Agency Web site: http://docket.epa.gov/rmepub/ Regional Material in EDocket (RME), EPA's electronic public docket and comment system, is EPA's preferred method for receiving comments. Once in the system, select “quick search,” then key in the appropriate RME Docket identification number. Follow the on-line instructions for submitting comments.

U.S. EPA Region 6 “Contact Us” Web site: http://epa.gov/region6/r6coment.htm. Please click on “6PD” (Multimedia) and select “Air” before submitting comments.

E-mail: Mr. Thomas Diggs at diggs.thomas@epa.gov. Please also cc the person listed in the FOR FURTHER INFORMATION CONTACT section below.

Fax: Mr. Thomas Diggs, Chief, Air Planning Section (6PD-L), at fax number 214-665-7263.

Mail: Mr. Thomas Diggs, Chief, Air Planning Section (6PD-L), Environmental Protection Agency, 1445 Ross Avenue, Suite 1200, Dallas, Texas 75202-2733.

Hand or Courier Delivery: Mr. Thomas Diggs, Chief, Air Planning Section (6PD-L), Environmental Protection Agency, 1445 Ross Avenue, Suite 1200, Dallas, Texas 75202-2733. Such deliveries are accepted only between the hours of 8 am and 4 pm weekdays except for legal holidays. Special arrangements should be made for deliveries of boxed information.

Instructions: Direct your comments to Regional Material in EDocket (RME) ID No. R06-OAR-2005-OK-0001. The EPA's policy is that all comments received will be included in the public file without change, change and may be made available online at http://docket.epa.gov/rmepub/, including any personal information provided, unless the comment includes information claimed to be Confidential Business Information (CBI) or other information the disclosure of which is restricted by statute. Do not submit information through Regional Material in EDocket (RME), regulations.gov, or e-mail if you believe that it is CBI or otherwise protected from disclosure. The EPA RME Web site and the federal regulations.gov are “anonymous access” systems, which means EPA will not know your identity or contact information unless you provide it in the body of your comment. If you send an e-mail comment directly to EPA without going through RME or regulations.gov, your e-mail address will be automatically captured and included as part of the comment that is placed in the public file and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the Regional Material in EDocket (RME) index at http://docket.epa.gov/rmepub/. Although listed in the index, some information is not publicly available, i.e., CBI or other information whose disclosure is restricted by statute. Certain other material, such as copyrighted material, is not placed on the Internet and will be publicly available only in hard copy form. Publicly available docket materials are available either electronically in RME or in the official file which is available at the Air Planning Section (6PD-L), Environmental Protection Agency, 1445 Ross Avenue, Suite 700, Dallas, Texas 75202-2733. The file will be made available by appointment for public inspection in the Region 6 FOIA Review Room between the hours of 8:30 am and 4:30 pm weekdays except for legal holidays. Contact the person listed in the FOR FURTHER INFORMATION CONTACT paragraph below or Mr. Bill Deese at (214) 665-7253 to make an appointment. If possible, please make the appointment at least two working days in advance of your visit. There will be a 15 cents per page fee for making photocopies of documents. On the day of the visit, please check in at the EPA Region 6 reception area at 1445 Ross Avenue, Suite 700, Dallas, Texas.

The State submittal is also available for public inspection at the State Air Agency listed below during official business hours by appointment:

Oklahoma Department of Environmental Quality, Air Quality Division, 707 North Robinson, Oklahoma City, OK 73101-1677.

FOR FURTHER INFORMATION CONTACT: Mr. Kenneth Boyce, Air Planning Section (6PD-L), EPA Region 6, 1445 Ross Avenue, Dallas, Texas 75202-2733, telephone (214) 665-7259, boyce.kenneth@epa.gov or Carrie Paige, Air Planning Section (6PD-L), EPA Region 6, 1445 Ross Avenue, Dallas, Texas 75202-2733, telephone (214) 665-6521, paige.carrie@epa.gov.

SUPPLEMENTARY INFORMATION: Throughout this document “we,” “us,” and “our” refer to EPA.

Outline

I. What action are we proposing?

II. What is an EAC?

III. What is a SIP?

IV. What is the content of the Central Oklahoma EAC attainment demonstration?

V. Why are we proposing to approve this EAC SIP submittal?

VI. What measures are included in this EAC SIP submittal?

VII. What happens if the area does not meet the EAC commitments or milestones?

VIII. Proposed Action

IX. Statutory and Executive Order Reviews

I. What Action Are We Proposing?

Today we are proposing to approve a revision to the Oklahoma SIP under sections 110 and 116 of the Act. The revision was submitted to EPA by the State of Oklahoma on December 22, 2004. This revision demonstrates attainment of the 8-hour ozone standard within the Central Oklahoma EAC area, which is coextensive with the Oklahoma City Metropolitan Statistical Area. The Central Oklahoma EAC is a voluntary agreement between the ODEQ, the City of Oklahoma City, the Greater Oklahoma City Chamber of Commerce, the Oklahoma Department of Transportation, the ACOG and the EPA. The intent of this agreement is to reduce ozone pollution earlier than the Act requires and thereby maintain the 8-hour ozone standard. The Central Oklahoma EAC sets forth a schedule to develop technical information about local ozone pollution, and adopt and implement emission control measures to ensure that this area achieves compliance with the 8-hour ozone standard by December 31, 2007. Section VI of this rulemaking describes the control measures that will be implemented within the Central Oklahoma EAC area.

II. What Is an EAC?

The Early Action Compact program was developed to allow communities an opportunity to reduce emissions of ground level ozone pollution sooner than the Act requires. The EAC program was designed for areas that approach or monitor exceedances of the 8-hour ozone standard, but are in attainment for the 1-hour ozone standard. The compact is a voluntary agreement between local communities, States and tribal air quality officials, and EPA which allows States and local entities to make decisions that will accelerate meeting the new 8-hour ozone standard using locally tailored pollution controls instead of Federally mandated control measures. Early planning and early implementation of control measures that improve air quality will likely accelerate protection of public health. The EPA believes the EAC program provides an incentive for early planning, early implementation, and early reductions of air emissions in the affected areas, thus leading to an expeditious attainment and maintenance of the 8-hour ozone standard.

Communities with EACs will have plans in place to reduce air pollution at least two years earlier than required by the Act. In December 2002, a number of States submitted compact agreements pledging to reduce emissions earlier than required for compliance with the 8-hour ozone standard. These States and local communities had to meet specific criteria, and agreed to meet certain milestones for development and implementation of the compact. States with communities participating in the EAC program had to submit implementation plans by December 31, 2004 for meeting the 8-hour ozone standard, rather than June 15, 2007, the deadline for all other areas not meeting the 8-hour standard. The EAC program required communities to develop and implement air pollution control strategies, account for emissions growth, and demonstrate their attainment and maintenance of the 8-hour ozone standard. For more information on the EAC program see section V of our December 16, 2003 (68 FR 70108), publication entitled “Deferral of Effective Date of Nonattainment Designations for 8-hour Ozone National Ambient Air Quality Standards for Early Action Compact Areas.”

On April 15, 2004, EPA designated all areas for the 8-hour ozone standard. The EPA deferred the effective date of nonattainment designations for those EAC areas that were violating the 8-hour standard, but continue to meet the compact milestones. We announced the details of this deferral on April 15, 2004 as part of the Clean Air Rules of 2004. See our April 30, 2004 (69 FR 23858), publication entitled “Air Quality Designations and Classifications for the 8-Hour Ozone National Ambient Air Quality Standards; Early Action Compact Areas with Deferred Effective Dates.”

III. What Is a SIP?

The SIP is a set of air pollution regulations, control strategies and technical analyses developed by the state, to ensure that the state meets the NAAQS. These ambient standards are established under section 109 of the Act and they currently address six criteria pollutants: carbon monoxide, nitrogen dioxide, ozone, lead, particulate matter, and sulfur dioxide. The SIP is required by Section 110 of the Act. These SIPs can be extensive, containing state regulations or other enforceable documents and supporting information such as emission inventories, monitoring networks, and modeling demonstrations.

IV. What Is the Content of the Central Oklahoma EAC Attainment Demonstration?

In support of this proposal, the ODEQ conducted an ozone photochemical modeling study developed for the Central Oklahoma EAC area. The photochemical modeling attainment demonstration includes: (1) Analyses which estimate whether selected emissions reductions will result in ambient concentrations that meet the 8-hour ozone standard in the Central Oklahoma EAC area, and (2) an identified set of measures which will result in the required emissions reductions. The modeled attainment test is passed if all resulting predicted future design values are less than 85 parts per billion (ppb). The design value is the three year average of the annual fourth highest 8-hour ozone readings. The attainment demonstration was supported by results of photochemical modeling and technical documentation. It shows that the 8-hour ozone standard should continue to be attained by 2007 and maintained through 2012. Additionally, the modeling analyses were further supported by some of the weight of evidence analyses that were evaluated for the Central Oklahoma and Tulsa areas.

We believe this study meets EPA's modeling requirements and guidelines, including such items as the base year inventory development, the growth rate projections, and the performance of the model. See Appendix B of our Technical Support Document (TSD) for more information about this modeling study, the weight of evidence analyses, and EPA's evaluation of these items. The modeling submitted in support of this proposal demonstrates that the Central Oklahoma EAC area will be in attainment with the 8-hour ozone NAAQS in 2007. The modeling results for the Central Oklahoma EAC area predict a maximum ozone design value of 80.2 ppb for 2007, which is well below the 8-hour ozone limit of 85 ppb. See section VI of this document for a list of measures that will be implemented within the Central Oklahoma EAC area. We are proposing to approve ODEQ's 8-hour ozone attainment demonstration plan for the Central Oklahoma EAC area.

V. Why Are We Proposing To Approve This EAC SIP Submittal?

We are proposing to approve this EAC SIP submittal because implementation of the requirements in This EAC will help ensure the Central Oklahoma area's compliance with the 8-hour ozone standard by December 31, 2007 and maintenance of that standard through 2012. We have reviewed these submittals and determined that they are consistent with the requirements of the Act, EPA's policy, and the EAC protocol. Our TSD contains more detailed information concerning this rulemaking action.

Approving the Central Oklahoma EAC area's clean air plans into the SIP with the measures and controls identified within the MOA provide a strengthening of the SIP for the Central Oklahoma EAC area. Consequently, the Central Oklahoma communities will start reducing air pollution at least two years earlier than required by the Act. EPA believes that the State and local area have provided a plan which will continue to fulfill the obligations necessary to maintain the April 15, 2004, attainment designation under the 8-hour ozone standard.

VI. What Measures Are Included in this EAC SIP Submittal?

The EPA designated the Central Oklahoma EAC area as attainment for the 8-hour ozone standard (63 FR 23858), however the EAC area has monitored violations of the federal 8-hour ozone standard. The ODEQ has submitted this revision to the SIP as a preventive and progressive measure to avoid violation of the 8-hour ozone standard within the affected area.

The MOA submitted within this SIP revision sets forth the duties and responsibilities for implementation of the Central Oklahoma EAC area Emission Reduction Strategies. While the implementation of these strategies is estimated to reduce emissions of volatile organic compounds (VOCs) and nitrogen oxides (NOX), the Central Oklahoma EAC area has demonstrated attainment without including the effects of these measures in their photochemical modeling.

One element within the emission reduction strategies includes intersection and signal improvements, continuous left turn lanes, and freeway corridor management projects. The intersection and signal improvements and continuous left turn lane projects are estimated to reduce emissions of VOCs by 119.97 pounds per day (lb/day) and emissions of NOX by 78.47 lb/day. The freeway corridor management projects include the installation of closed circuit televisions, webcams and dynamic message signs to direct traffic away from congested areas; these measures are projected to reduce emissions of VOCs by 35.58 lb/day. These Emission Reduction Strategies are described in detail in the TSD and they will be incorporated by reference in the Code of Federal Regulations in the final approval action. Detailed information is necessary for emission reduction measures in the SIP to ensure that they are specific and enforceable as required by the Act and the EAC protocol. The description of these emission reduction measures includes the identification of each project, location, length of each project (if applicable), a brief project description, implementation date and emissions reductions for both VOCs and NOX.

Another element of the Emission Reduction Strategy includes 4 bicycle/pedestrian projects in the Central Oklahoma EAC area. These projects create a total of 11 miles of new bike/pedestrian trails. Due to minimal trail mileage created there is a low percentage of shift from driving to walking or riding a bike and the actual amount of emission reduction is too low to report. As such, the effect of these projects is not reflected in the photochemical modeling attainment demonstration. However, each project is part of a future regional master trail plan that is comprised of several trails linked together. The linking of several trails help to reduce vehicle miles traveled by creating safer paths for alternate modes of transportation to work, school and shopping. The master trail plans also serve to create a larger, more accessible recreational area for more citizens.

The Emission Reduction Strategies described above will assist the Central Oklahoma EAC area in achieving and maintaining the 8-hour ozone NAAQS and we are proposing to approve these Emission Reduction Strategies. In compliance with the next EAC milestone, all of these measures will be implemented on or before December 31, 2005.

Per the EAC protocol, the Central Oklahoma Clean Air Action Plan must also include a component to address maintenance for growth at least 5 years beyond 2007, ensuring the area will remain in attainment of the 8-hour ozone standard through 2012. The Central Oklahoma EAC area has developed an emissions inventory for the year 2012, as well as a continuing planning process to address this essential part of the plan. The emissions inventory predicted an overall reduction in emissions through 2012: The VOC emissions predicted are 34 percent less in 2012 than those modeled for 2007, and emissions expected for NOX are 19 percent less in 2012 than those modeled for 2007. Using air quality models to anticipate the impact of growth, as well as the state-assisted and locally-implemented measures to reduce emissions, the State has projected the area will be in attainment of the 8-hr ozone standard in 2007 and will remain in attainment through 2012.

To fulfill the planning process, the EAC signatories and implementing agencies will review all EAC activities and report on results in their semi-annual reports, beginning in June 2005. This semi-annual review will track and document, at a minimum, control strategy implementation and results, monitoring data and future plans. After review, additional control measures may be considered and adopted through revisions to this SIP if necessary.

VII. What Happens If the Area Does not Meet the EAC Commitments or Milestones?

On April 15, 2004, EPA designated the Central Oklahoma EAC area as attainment for the 8-hour ozone standard. We believe the local and State signatories of the EAC area will continue to meet their commitments to reduce ozone pollution. The measures outlined in the submittal provide sufficient information to conclude that the Central Oklahoma EAC area will complete each of the compact milestone requirements, including attainment of the 8-hour ozone standard by 2007. However, one of the principles of the EAC protocol is to provide safeguards to return areas to traditional SIP requirements should an area fail to comply with the terms of the EAC. If, as outlined in our guidance and in 40 CFR 81.300, an EAC milestone is missed and the area is still in attainment of the 8-hour ozone standard, we would take action to propose and promulgate a finding of failure to meet the milestone, but the ozone attainment designation and approved SIP elements would remain in effect. If the design value for the EAC area exceeds the 8-hour ozone standard and the area has missed a compact milestone, we would also consider factors in section 107(d)(3)(A) of the Act in deciding whether to redesignate the area to nonattainment for the 8-hour ozone NAAQS.

VIII. Proposed Action

The EPA is proposing to approve the attainment demonstration, the Emission Reduction Strategies, and the EAC plan into the Oklahoma SIP as a strengthening of the SIP. The modeling of ozone and ozone precursor emissions from sources in the Central Oklahoma EAC area demonstrate that the area will attain the 8-hour ozone NAAQS by December 31, 2007.

IV. Statutory and Executive Order Reviews

Under Executive Order 12866 (58 FR 51735, October 4, 1993), this proposed action is not a “significant regulatory action” and therefore is not subject to review by the Office of Management and Budget. For this reason and because this action will not have a significant, adverse effect on the supply, distribution, or use of energy, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions under the National Technology Transfer and Advancement Act of 1995 (15 U.S.C. 272 note), EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 do not apply. This proposed rule does not impose an information collection burden under the provisions of the Paperwork Reduction Act of 1995 (44 U.S.C. 3501 et seq.).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: May 5, 2005.
Richard E. Greene,
Regional Administrator, Region 6.

[FR Doc. 05-9588 Filed 5-12-05; 8:45 am]

BILLING CODE 6560-50-P